DEPARTMENT OF ENERGY

Federal Energy Regulatory Commission

[Project No. 2680-113]

Consumers Energy Company and DTE Electric Company; Notice of Application Accepted for Filing, Soliciting Motions to Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2680-113.

c. Date filed: June 28, 2017.

d. Applicant: Consumers Energy Company and DTE Electric Company (Consumers Energy and DTE Companies).

e. Name of Project: Ludington Pumped Storage Project.

f. Location: The existing project is located on the east shore of Lake Michigan in the townships of Pere Marquette and Summit, Mason County, Michigan, and in Port Sheldon, Ottawa County, Michigan. The Ottawa County portion is a 1.8-acre satellite recreation site, located about 70 miles south of the project. The project does not affect federal lands.

g. Filed Pursuant to: Federal Power Act 16 U.S.C. 791 (a)-825(r).

h. Applicant Contact: David McIntosh, Consumers Energy Company, Hydro and Renewable Generation, 330 Chestnut Street, Cadillac, MI 49601; Telephone (231) 779-5506, email David.McIntosh@cmsenergy.com.

i. FERC Contact: Shana Wiseman, Telephone (312) 596-4468 and email shana.wiseman@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2680-113.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Ludington Project is a pumped storage project that consists of: (1) An 842-acre upper reservoir with a gross storage capacity of 82,300 acre-feet at an elevation of 942 feet National Geodetic Vertical Datum (NGVD); (2) a concrete intake structure located in the upper reservoir; (3) six, 1,300-foot-long steel penstocks varying in diameter from 28.5 feet at the intake to 24 feet at the powerhouse; (4) a concrete powerhouse with six bays each housing a pump-turbine/motor-generator unit; (5) a lower reservoir (Lake Michigan) with a surface area of about 22,300 square miles and a mean depth of 279 feet; (6) two 1,600-foot-long jetties; (7) an approximately 1,700-foot-long breakwater located about 2,700 feet from the shore; and (8) appurtenant facilities. Additionally, a satellite recreation site (Pigeon Lake North Pier) is located about 70 miles south of the project. The recreation facility includes a parking area and a 4,600-foot-long boardwalk.

The existing Ludington Project is operated to generate during peak demand periods. Generation usually occurs during the day with the upper reservoir partially replenished at night during pumping. The project has an installed capacity of 1,785 megawatts with an average annual generation of approximately 2,624,189 megawatt hours.

m. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, COMMENTS, REPLY COMMENTS, RECOMMENDATIONS, PRELIMINARY TERMS AND CONDITIONS, or PRELIMINARY FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following revised Hydro Licensing Schedule. Revisions to the schedule may be made as appropriate.

Milestone | Target date
Filing of recommendations, preliminary terms and conditions, and preliminary fishway prescriptions | April 2018.
Commission issues Non-Draft Environmental Assessment (EA) | September 2018.
Comments on EA | October 2018.
Modified terms and conditions | December 2018.

p. Final amendments to the application must be filed with the Commission no later than 30 days from the issuance date of this notice.

q. A license applicants must file no later than 60 days following the date of issuance of the notice of acceptance and ready for environmental analysis provided for in 5.22: (1) A copy of the water quality certification; (2) a copy of the request for certification, including proof of the date on which the certifying agency received the request; or (3) evidence of waiver of water quality certification.

Dated: February 8, 2018.
Kimberly D. Bose,
Secretary.

[FR Doc. 2018-03010 Filed 2-13-18; 8:45 am]

BILLING CODE 6717-01-P